DEPARTMENT OF COMMERCE

Foreign-Trade Zones Board

[B-10-2025]

Foreign-Trade Zone (FTZ) 40; Authorization of Limited Production Activity; Eagle Electronics; (Cellular Modules); Solon, Ohio

On February 21, 2025, the Cleveland Cuyahoga County Port Authority, grantee of FTZ 40, submitted a notification of proposed production activity to the FTZ Board on behalf of Eagle Electronics (Eagle), in conjunction with the CO-AX Technology Inc. (CO-AX), within FTZ 40 in Solon, Ohio.

The notification was processed in accordance with the regulations of the FTZ Board (15 CFR part 400), including notice in the Federal Register inviting public comment (90 FR 10808, February 27, 2025). On November 13, 2025, the applicant was notified of the FTZ Board's decision that the proposed activity has been authorized on a limited basis, subject to the FTZ Act and the Board's regulations, including section 400.14, and subject to a three-year limited authorization with the requirement that CO-AX/Eagle will also need to provide information annually on the availability of domestic printed circuit boards and its efforts to source those domestically. If domestically-produced printed circuit boards become available, or if CO AX/Eagle fails to demonstrate that it cannot source printed circuit boards domestically, the FTZ Board should review the authorization.

Dated: November 24, 2025.
Elizabeth Whiteman,
Executive Secretary.

[FR Doc. 2025-21239 Filed 11-25-25; 8:45 am]

BILLING CODE 3510-DS-P